DEPARTMENT OF LABOR

Employment and Training Administration

[TA-W-63,513]

CIMA Plastics II Corporation, Formerly Known as SR Plastics, d/b/a Engineered Quality Plastics, Elberton, GA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on July 8, 2008, applicable to workers of CIMA Plastics II Corporation, Elberton, Georgia. The notice will be published soon in the Federal Register.

At the request of the State agency, the Department reviewed the certification for workers of the subject firm. The workers were engaged in employment related to the production of a variety of injection molded plastic items including soap dispensers, totes, storage containers, and wheels for lawnmowers.

New information shows that in April 2008, CIMA Plastics II Corporation purchased SR Plastics, d/b/a Engineered Quality Plastics and that some of the workers' wages at the subject firm are being reported under the Unemployment Insurance (UI) tax accounts for CIMA Plastics II Corporation, formerly known as SR Plastics, d/b/a Engineered Quality Plastics.

Accordingly, the Department is amending this certification to properly reflect this matter.

The intent of the Department's certification is to include all workers of CIMA Plastics II Corporation, formerly known as SR Plastics, d/b/a Engineered Quality Plastics who were adversely affected by a shift in production of injection molded plastics including soap dispensers, totes, storage containers, and wheels for lawn mowers to Mexico.

The amended notice applicable to TA-W-63,513 is hereby issued as follows:

All workers of CIMA Plastics II Corporation, formerly known as SR Plastics, d/b/a Engineered Quality Plastics, Elberton, Georgia, who became totally or partially separated from employment on or after June 2, 2007, through July 8, 2010, are eligible to apply for adjustment assistance under Section 223 of the Trade Act of 1974, and are also eligible to apply for alternative trade adjustment assistance under Section 246 of the Trade Act of 1974.

Signed at Washington, DC, this 30th day of July 2008.
Richard Church,
Certifying Officer, Division of Trade Adjustment Assistance.

[FR Doc. E8-18170 Filed 8-6-08; 8:45 am]

BILLING CODE 4510-FN-P